DEPARTMENT OF THE INTERIOR

Bureau of Land Management

[LLNVW00000 L14300000.ET0000 241A; NEV-051742; 11-08807; MO#4500012855; TAS: 14X1109]

Notice of Proposed Withdrawal Extension, Corrections to Existing Withdrawal, and Opportunity for Public Meeting; Nevada

AGENCY: Bureau of Land Management, Interior.

ACTION: Notice.

SUMMARY: The U.S. Fish and Wildlife Service (FWS) filed an application to extend the duration of Public Land Order (PLO) No. 6849 for an additional 20-year term. PLO No. 6849 withdrew approximately 457,800 acres of Federal lands, known as the Sheldon National Wildlife Refuge, from mineral entry and location under the United States mining laws to protect the wildlife habitat and unique resource values of the refuge lands. In addition, this notice corrects errors made in describing unsurveyed lands in Township 46 North, Range 27 East, and in the calculation of total acreage withdrawn by PLO No. 6849. This notice gives an opportunity for the public to comment on the proposed withdrawal extension and announces the date, time, and location of a public meeting.

DATES: For a period of 90 days from the date of publication of this notice, all persons who wish to submit comments, suggestions, or objections in connection with the proposed withdrawal may do so in writing until March 1, 2011. The public will also be notified of the meeting date by announcement in a local newspaper and on the BLM Web site: http://www.blm.gov/nv/st/en/fo/wfo.html at least 30 days prior to the scheduled date of the meeting.

ADDRESSES: Comments should be mailed to: Humboldt River Field Manager, Bureau of Land Management (BLM), 5100 E. Winnemucca Blvd., Winnemucca, NV 89445, or e-mailed to: Michael_Truden@blm.gov.

FOR FURTHER INFORMATION CONTACT: Michael Truden, 775-623-1500, or e-mail: Michael_Truden@blm.gov.

SUPPLEMENTARY INFORMATION: The FWS Region 1 has filed an application to extend the withdrawal established by PLO No. 6849 (56 FR 16278), for an additional 20-year term. The PLO withdrew the following described Federal lands from location under the United States mining laws and will expire on April 21, 2011, unless extended.

Mount Diablo Meridian

T. 45 N., R. 22 E.,

Secs. 1 and 2;

Sec. 3, lots 1, 2, and 4, S½NE¼, NE¼SW¼, S½SW¼, and SE¼;

Sec. 10, N½N½, SE¼NE¼, and E½SE¼;

Secs. 11 to 14, inclusive;

Sec. 15, NE¼, W½NW¼, NW¼SW¼, and E½SE¼;

Sec. 19;

Sec. 20, NE¼, S½NW¼, and S½;

Sec. 21;

Sec. 22, NE¼NE¼, S½N½, and S½;

Secs. 23 to 34, inclusive;

Sec. 35, NE¼, NW¼NW¼, S½NW¼, and S½;

Sec. 36.

T. 46 N., R. 22 E.,

Secs. 1 to 5, inclusive;

Sec. 6, lots 1 and 2, S½NE¼, E½SW¼, and SE¼;

Sec. 7, lots 1, 2, and 4, NE¼, E½NW¼, SE¼SW¼, NE¼SE¼, and S½SE¼;

Secs. 8 and 9;

Sec. 10, E½, W½W½, and SE¼SW¼;

Sec. 11, N½, SW¼, N½SE¼, and SW¼SE¼;

Sec. 12, N½NE¼, SW¼NE¼, NW¼, and SE¼SE¼;

Sec. 13, N½NE¼, SE¼NE¼, SW¼NW¼, SW¼, NE¼SE¼, and SW¼SE¼;

Sec. 14, NE¼, E½NW¼, SW¼NW¼, and S½;

Sec. 15, W½NE¼, SE¼NE¼, W½, and SE¼;

Secs. 16, 17, 18, 22, and 23;

Sec. 24, W½NE¼, SE¼NE¼, W½, and SE¼;

Secs. 25, 26, 27, 34, 35, and 36.

T. 47 N., R. 22 E.,

Secs. 13, 14, and 15;

Sec. 16, lot 4 and W½SW¼;

Secs. 17 to 20, inclusive;

Sec. 21, NW¼NW¼ and E½SE¼;

Secs. 22 to 27, inclusive;

Sec. 28, E½E½, NW¼NW¼, and SW¼SE¼;

Sec. 29, NE¼, N½NW¼, SW¼NW¼, W½SW¼, SE¼SW¼, N½SE¼, and SW¼SE¼;

Secs. 30, 31, and 32;

Sec. 33, NE¼, N½SE¼, and SE¼SE¼;

Secs. 34, 35, and 36.

T. 43 N., R. 23 E.,

Secs. 1 to 6, inclusive;

Sec. 7, lots 1 to 4, inclusive, W½E½, SE¼NE¼, E½W½, and E½SE¼;

Sec. 8, E½;

Sec. 9, N½, N½SW¼, SE¼SW¼, and N½SE¼;

Sec. 10, N½, NE¼SW¼, and SE¼;

Secs. 11 and 12;

Sec. 13, N½, SW¼, N½SE¼, and SW¼SE¼;

Sec. 14, E½, N½NW¼, SE¼NW¼, and SW¼;

Sec. 15, N½, N½SW¼, SE¼SW¼, and SE¼;

Sec. 16, SE¼NE¼, N½NW¼, SW¼NW¼, NE¼SE¼, and S½SE¼;

Sec. 17, E½ and SE¼SW¼;

Sec. 18, lots 1 to 4, inclusive, NE¼, E½W½, N½SE¼, and SW¼SE¼;

Sec. 19, lots 1 to 4, inclusive, W½NE¼, SE¼NE¼, E½W½, and SE¼;

Sec. 20;

Sec. 21, E½, E½NW¼, and SW¼;

Sec. 22;

Sec. 23, N½, N½SW¼, SW¼SW¼, and SE¼;

Sec. 24, E½, W½NW¼, SE¼NW¼, and SW¼;

Sec. 25, N½, NE¼SW¼, S½SW¼, and SE¼;

Secs. 26 to 32, inclusive;

Sec. 33, NE¼, W½NW¼, SE¼NW¼, and SW¼;

Sec. 34, N½N½, SE¼NE¼, SW¼NW¼, E½SW¼, and SE¼;

Sec. 35, E½, E½NW¼, SW¼NW¼, and SW¼;

Sec. 36, N½, NE¼SW¼, S½SW¼, and SE¼.

T. 44 N., R. 23 E.,

Sec. 1;

Sec. 2, lots 1, 2, and 3, S½NE¼, SE¼NW¼, E½SW¼, SW¼SW¼, and SE¼;

Sec. 3, lots 2, 3, and 4, SW¼NE¼, S½NW¼, and S½;

Sec. 4, lots 1 to 4, inclusive, S½NE¼, SW¼NW¼, W½SW¼, SE¼SW¼, and W½SE¼;

Sec. 5, lots 1 to 4, inclusive, S½N½, N½SW¼, and SE¼;

Sec. 6;

Sec. 7, lots 1 to 4, inclusive, N½NE¼, E½W½, and SE¼;

Sec. 8;

Sec. 9, NE¼NE¼, S½NE¼, W½, and SE¼;

Sec. 10, N½, SW¼, N½SE¼, and SE¼SE¼;

Sec. 11, N½NE¼, SE¼NE¼, W½, and SE¼;

Sec. 12, N½, SW¼, N½SE¼, and SE¼SE¼;

Secs. 13 and 14;

Sec. 15, E½NE¼, NW¼NW¼, S½NW¼, SW¼, and NE¼SE¼;

Sec. 16, E½, E½W½, SW¼NW¼, and NW¼SW¼;

Sec. 17, E½, NW¼, E½SW¼, and SW¼SW¼;

Secs. 18, 19, and 20;

Sec. 21, N½, SW¼, N½SE¼, and SW¼SE¼;

Sec. 22, W½NE¼, NW¼, and N½S½;

Sec. 23, E½, N½NW¼, SE¼NW¼, and NE¼SW¼;

Sec. 24;

Sec. 25, NE¼, N½NW¼, NW¼SW¼, S½SW¼, NE¼SE¼, and SW¼SE¼;

Sec. 26, SW¼NE¼, W½NW¼, SE¼NW¼, and S½;

Sec. 27, E½, S½NW¼, and SW¼;

Sec. 28, S½NE¼, NW¼NW¼, and S½;

Secs. 29 to 36, inclusive.

T. 45 N., R. 23 E.,

Secs. 1 to 14, inclusive;

Sec. 15, N½, SW¼, N½SE¼, and SE¼SE¼;

Sec. 16, N½, N½S½, SE¼SW¼, and SE¼SE¼;

Sec. 17;

Sec. 18, lots 1 and 4, NE¼, E½NW¼, and N½SE¼;

Sec. 19, lots 1 to 4, inclusive, SW¼NE¼, E½W½, and SE¼;

Sec. 20, NW¼NE¼, SE¼NE¼, NE¼NW¼, SW¼, NE¼SE¼, and SW¼SE¼;

Sec. 21, E½NE¼, SW¼NE¼, N½NW¼, SE¼NW¼, NW¼SW¼, S½SW¼, and S½SE¼;

Sec. 22, E½NE¼, SW¼NE¼, W½, and SE¼;

Secs. 23 and 24;

Sec. 25, N½, SW¼, and N½SE¼;

Secs. 26 and 27;

Sec. 28, E½, E½NW¼, SW¼NW¼, and SW¼;

Sec. 29, W½NE¼, SE¼NE¼, W½, and SE¼;

Sec. 30, lots 1, 2, and 4, E½, E½NW¼, and NE¼SW¼;

Secs. 31, 32, and 33;

Sec. 34, N½, SW¼, N½SE¼, and SW¼SE¼;

Sec. 35, N½NE¼, SW¼NE¼, NW¼, SE¼SW¼, and S½SE¼;

Sec. 36, NE¼NE¼, S½NE¼, NW¼NW¼, and S½.

T. 46 N., R. 23 E.,

Secs. 1 to 4, inclusive;

Sec. 5, lots 1 to 4, inclusive, S½N½, SW¼, E½SE¼, and SW¼SE¼;

Sec. 6, lots 1 to 7, inclusive, S½NE¼, SE¼NW¼, NE¼SW¼, NE¼SE¼, and S½SE¼;

Sec. 7, lots 2 and 4, N½NE¼, SW¼NE¼, E½NW¼, SE¼SW¼, and S½SE¼;

Secs. 8 to 17, inclusive;

Sec. 18, lots 1, 2, and 3, E½, and E½W½;

Sec. 19, lot 4, E½, and E½NW¼;

Sec. 20, E½, N½NW¼, SW¼NW¼, and SW¼;

Sec. 21;

Sec. 22, W½NE¼, SE¼NE¼, W½, and SE¼;

Sec. 23, E½NE¼, SW¼NE¼, E½NW¼, N½SW¼, SE¼SW¼, and SE¼;

Secs. 24 to 29, inclusive;

Sec. 30, lots 1 to 4, inclusive, N½NE¼, SE¼NE¼, SE¼NW¼, E½SW¼, and SE¼;

Secs. 31 to 36, inclusive.

T. 47 N., R. 23 E.,

Secs. 13 to 36, inclusive.

T. 46 N., R. 23½ E., unsurveyed,

Secs. 1 and 2,

Secs. 11 to 14, inclusive;

Secs. 23 to 26, inclusive;

Secs. 35 and 36.

T. 47 N., R. 23½ E., unsurveyed,

Secs. 23 to 26, inclusive;

Secs. 35 and 36.

T. 43 N., R. 24 E.,

Sec. 1;

Sec. 2, lots 1 and 4, SE¼NE¼, SW¼NW¼, SE¼SW¼, and SE¼;

Sec. 3, lots 1 to 4, inclusive, S½N½, SW¼, N½SE¼, and SW¼SE¼;

Sec. 4;

Sec. 5, lots 1 to 4, inclusive, S½N½, and SE¼;

Sec. 6, lots 1 to 7, inclusive, S½NE¼, SE¼NW¼, E½SW¼, and NW¼SE¼;

Sec. 7, lots 1 to 4, inclusive, SE¼NW¼, E½SW¼, and W½SE¼;

Sec. 8, E½ and E½SW¼;

Sec. 9, N½NE¼, SW¼NE¼, W½, and E½SE¼;

Sec. 10, NE¼NE¼, S½NE¼, NW¼NW¼, W½SW¼, N½SE¼, and SW¼SE¼;

Sec. 11, N½, SW¼, N½SE¼, and SW¼SE¼;

Sec. 12;

Sec. 13, N½, SW¼, N½SE¼, and SW¼SE¼;

Sec. 14, W½NE¼, NW¼, NE¼SW¼, SW¼SW¼, and S½SE¼;

Sec. 15, NE¼NE¼, SW¼NE¼, NW¼, W½SW¼, SE¼SW¼, and S½SE¼;

Sec. 16, E½NE¼, W½, and NE¼SE¼;

Sec. 17, E½, E½NW¼, SW¼NW¼, and SW¼;

Sec. 18, lots 1 to 4, inclusive, W½NE¼, E½NW¼, NE¼SW¼, and SE¼;

Sec. 19, lots 1, 3, and 4, N½NE¼, SE¼NE¼, E½NW¼, and E½SE¼;

Sec. 20;

Sec. 21, E½, S½NW¼, and SW¼;

Secs. 22 and 23;

Sec. 24, W½NE¼, SE¼NE¼, W½, and SE¼;

Secs. 25 to 28, inclusive;

Sec. 29, N½, E½SW¼, and SE¼;

Sec. 30, lots 1 to 4, inclusive, NE¼NE¼, E½W½, W½SE¼, and SE¼SE¼;

Sec. 31, lots 1, 2, and 3, N½NE¼, SW¼NE¼, SE¼NW¼, E½SW¼, and SE¼;

Sec. 32, NE¼, SE¼NW¼, NE¼SW¼, N½SE¼, and SE¼SE¼;

Sec. 33;

Sec. 34, NW¼NE¼, W½, E½SE¼, and SW¼SE¼;

Secs. 35 and 36.

T. 44 N., R. 24 E.,

Sec. 1;

Sec. 2, lots 1 to 4, inclusive, S½N½, and NE¼SE¼;

Secs. 3 to 9, inclusive;

Sec. 10, N½, N½SW¼, SW¼SW¼, and SE¼;

Sec. 11, W½NE¼, SE¼NE¼, W½, N½SE¼, and SW¼SE¼;

Sec. 12, NE¼, NE¼NW¼, NW¼SW¼, and E½SE¼;

Sec. 13, NE¼NE¼, W½, W½SE¼, and SE¼SE¼;

Sec. 14, S½N½, NW¼NW¼, and S½;

Secs. 15 to 20, inclusive;

Sec. 21, NE¼, N½NW¼, SW¼NW¼, N½SW¼, SW¼SW¼, and N½SE¼;

Sec. 22, N½, N½SW¼, SE¼SW¼, and SE¼;

Sec. 23, NE¼, W½, and E½SE¼;

Sec. 24;

Sec. 25, NE¼NE¼, S½N½, NW¼NW¼, and S½;

Sec. 26, E½NE¼, W½, and SE¼;

Sec. 27, E½, E½NW¼, SW¼NW¼, and SW¼;

Sec. 28, S½NE¼, W½, and SE¼;

Sec. 29;

Sec. 30, lots 1, 2, and 3, NE¼, and E½NW¼;

Sec. 31, lots 1 to 4, inclusive, S½NE¼, E½W½, and SE¼;

Sec. 32, NE¼, NE¼NW¼, SW¼NW¼, SW¼, and E½SE¼;

Secs. 33 and 34;

Sec. 35, N½NE¼, SE¼NE¼, N½NW¼, SW¼NW¼, W½SW¼, and E½SE¼;

Sec. 36, NE¼NE¼, SW¼NE¼, W½NW¼, SE¼NW¼, and S½.

T. 45 N., R. 24 E.,

Secs. 1 to 17, inclusive;

Sec. 18, lots 1 to 4, inclusive, E½, E½NW¼, and SE¼SW¼;

Secs. 19 to 29, inclusive;

Sec. 30, lots 1, 2, and 3, E½, and E½W½;

Secs. 31 to 36, inclusive.

T. 45½ N., R. 24 E.,

Sec. 31;

Sec. 32, lots 1 to 4, inclusive, SW¼NE¼, S½NW¼, and S½;

Secs. 33 to 36, inclusive.

T. 46 N., R. 24 E., partially unsurveyed,

Secs. 1 to 32, inclusive;

Sec. 33, N½NE¼, NW¼, W½SW¼, SE¼SW¼, E½SE¼, and SW¼SE¼;

Secs. 34, 35, and 36.

T. 47 N., R. 24 E., unsurveyed,

Secs. 19 to 36, inclusive.

T. 43 N., R. 24½ E.,

Sec. 1;

Sec. 2, lots 1, 3, and 4, and E½E½;

Secs. 11 to 14, inclusive;

Secs. 23 to 26, inclusive;

Sec. 35, lots 1 to 8, inclusive, and SE¼NE¼;

Sec. 36.

T. 44 N., R. 24½ E.,

Secs. 1 and 2;

Secs. 11 to 14, inclusive;

Secs. 23 to 26, inclusive;

Secs. 35 and 36.

T. 43 N., R. 25 E.,

Secs. 1 and 2;

Sec. 3, E½, E½NW¼, SW¼NW¼, N½SW¼, and SW¼SW¼;

Secs. 4 to 9, inclusive;

Sec. 10, NE¼, W½W½, E½SE¼, and SW¼SE¼;

Secs. 11 to 14, inclusive;

Sec. 15, E½NE¼, SW¼NE¼, NW¼NW¼, SE¼NW¼, and S½;

Sec. 16, N½N½, SW¼NW¼, and SE¼;

Secs. 17, 18, and 19;

Sec. 20, N½ and SW¼;

Sec. 21, N½, E½SW¼, and SE¼;

Secs. 22 to 27, inclusive;

Sec. 28, N½, S½SW¼, and NE¼SE¼;

Sec. 29, lots 1, 2, and 3, W½NE¼, W½, and NW¼SE¼;

Secs. 30 to 36, inclusive.

T. 44 N., R. 25 E.,

Secs. 1 to 9, inclusive;

Sec. 10, N½, SW¼, and N½SE¼;

Secs. 11 to 14, inclusive;

Sec. 15, NE¼NE¼, SW¼NE¼, W½, and SE¼;

Secs. 16 to 26, inclusive;

Sec. 27, N½, N½SW¼, SW¼SW¼, and SE¼;

Secs. 28 to 33, inclusive;

Sec. 34, E½, NW¼NW¼, and SE¼SW¼;

Secs. 35 and 36.

T. 45 N., R. 25 E., partially unsurveyed,

Sec. 1, surveyed areas lots 1 and 2, S½NE¼, and unsurveyed areas N½, SW¼, N½SE¼, and SW¼SE¼;

Secs. 2 to 11, inclusive;

Sec. 12, W½;

Sec. 13, NE¼NW¼ and W½W½;

Secs. 14 to 22, inclusive;

Sec. 23, N½ and N½SW¼;

Secs. 27 to 34, inclusive;

Sec. 35, lots 1, 2, 3, 5, 6, and 7;

Sec. 36, NE¼NE¼, S½N½, and S½.

T. 45½ N., R. 25 E., unsurveyed,

Sec. 25, SW¼SW¼;

Secs. 26 to 35, inclusive;

Sec. 36, W½NW¼ and S½.

T. 46 N., R. 25 E., partially unsurveyed,

Secs. 1 to 25, inclusive;

Sec. 26, N½, NE¼SW¼, and SE¼;

Sec. 27, N½NE¼, SE¼NE¼, and W½;

Secs. 28 to 33, inclusive;

Sec. 34, W½;

Sec. 36, N½NE¼ and NE¼NW¼.

T. 47 N., R. 25 E., unsurveyed,

Secs. 19 to 36, inclusive.

T. 43 N., R. 26 E.,

Secs. 1 to 33, inclusive;

Sec. 34, lots 1, 3, and 4, N½, NW¼SW¼, and N½SE¼;

Secs. 35 and 36.

T. 44 N., R. 26 E., unsurveyed,

Secs. 1 to 36, inclusive.

T. 45 N., R. 26 E., partially unsurveyed,

Sec. 6, lots 3, 4, and 5, NE¼, and SE¼NW¼;

Sec. 21, SE¼SW¼ and S½SE¼;

Sec. 22, S½SW¼, SW¼SE¼, and SE¼SE¼ excluding patented portion;

Sec. 23, SW¼SW¼ excluding patented portion, SE¼SW¼, and S½SE¼;

Sec. 24, S½S½;

Secs. 25 to 28, inclusive;

Sec. 29, E½ and E½W½;

Sec. 30, S½SW¼;

Secs. 31 to 36, inclusive.

T. 46 N., R. 26 E., partially unsurveyed,

Secs. 1 to 12, inclusive;

Sec. 13, N½, SW¼, and NW¼SE¼;

Sec. 14, N½, N½SW¼, SE¼SW¼, and SE¼;

Sec. 15, N½, SW¼, N½SE¼, and SW¼SE¼;

Secs. 16 to 21, inclusive;

Sec. 22, NW¼NE¼, NW¼, N½SW¼, and SW¼SW¼;

Sec. 28, NE¼NE¼, W½NE¼, NW¼, and N½SW¼;

Secs. 29 and 30;

Sec. 31, lots 1, 2, and 3, NE¼, and E½NW¼;

Sec. 32, N½NE¼ and NW¼.

T. 47 N., R. 26 E., unsurveyed,

Secs. 19 to 36, inclusive.

T. 46 N., R. 27 E., partially unsurveyed,

Sec. 1, NW¼;

Sec. 2, N½, SW¼, and N½SE¼;

Sec. 3;

Sec. 4, N½ and E½SE¼;

Sec. 5, N½, SW¼, N½SE¼, and SW¼SE¼;

Sec. 6;

Sec. 7, N½, SW¼, and NW¼SE¼;

Sec. 8, N½NW¼ and SW¼NW¼;

Sec. 9, E½NE¼ and SE¼;

Sec. 10;

Sec. 15, N½NE¼, NW¼, and W½SW¼;

Sec. 16, E½, NE¼SW¼, and S½SW¼;

Sec. 18, N½NW¼ and SW¼NW¼;

Sec. 20, E½E½;

Sec. 21, N½NE¼, SW¼NE¼, and W½;

Sec. 28, N½NW¼.

T. 47 N., R. 27 E., unsurveyed,

Secs. 19 to 24, inclusive;

Sec. 25, W½NE¼ and W½;

Secs. 26 to 35, inclusive;

Sec. 36, NW¼NW¼ and W½SW¼.

The areas described aggregate approximately 457,800 acres in Washoe and Humboldt Counties. The legal descriptions of the unsurveyed lands are based on what normal survey subdivision units would be when surveyed. PLO No. 6849, when published, withdrew 445,766 acres but was subsequently corrected by Federal Register notice 56 FR 24119, and PLO Nos. 6849 and 6907. The corrections to the legal descriptions and acreage calculations result in the recognition of an additional 12,034 acres that lie within the existing withdrawal boundary but that were omitted due to protraction errors.

This notice does not alter or extinguish or otherwise affect the existing mineral withdrawal created by PLO No. 6849.

The lands withdrawn by PLO No. 6849 consist of high desert habitat. The purpose of the withdrawal extension is to continue to conserve and protect the sagebrush-steppe landscape for optimum populations of native plants and wildlife including large wintering herds of pronghorn antelope, bighorn sheep, pygmy rabbits, and greater sage-grouse.

The use of a right-of-way, interagency agreement, or cooperative agreement, would not provide adequate protection for the wildlife habitat and unique resource values within the Sheldon National Wildlife Refuge.

No additional water rights would be needed to fulfill the purpose of the requested withdrawal extension.

There are no suitable alternative sites since the lands described herein contain the natural and biological resources of interest for protection.

Comments, including names and street addresses of respondents, will be available for public review at the address stated above, during regular business hours, 7:30 a.m. to 4:30 p.m., Monday through Friday, except holidays. Before including your address, phone number, email address, or other personal identifying information in your comment, you should be aware that your entire comment—including your personal identifying information—may be made publicly available at any time. While you can ask us in your comment to withhold your personal identifying information from public review, we cannot guarantee that we will be able to do so. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that a public meeting in connection with the proposed withdrawal extension will be held on January 18, 2011 from 6 p.m. to 8 p.m at the BLM Winnemucca District Office, located at the address stated above. A notice of the time and place will also be published in at least one newspaper of local jurisdiction no less than 30 days before the scheduled meeting date. Interested parties may make oral statements and may file written statements at the meeting. All statements received will be considered before any recommendation concerning the proposed extension is submitted to the Assistant Secretary for Land and Minerals Management for final action.

The application will be processed in accordance with the regulations set forth in 43 CFR 2310.4.

Authority: 43 CFR 2310.3-1.

Ron Wenker,
State Director, Nevada.

[FR Doc. 2010-30189 Filed 11-30-10; 8:45 am]

BILLING CODE 4310-55-P